DEPARTMENT OF EDUCATION

Meeting of the President's Advisory Commission on Educational Excellence for African Americans

AGENCY: President's Advisory Commission on Educational Excellence for African Americans, U.S. Department of Education.

ACTION: Announcement of an open meeting.

SUMMARY: This notice sets forth the schedule and agenda of the meeting of the President's Advisory Commission on Educational Excellence for African Americans (PACEEAA). The notice also describes the functions of the PACEEAA. Notice of the meeting is required by § 10(a)(2) of the Federal Advisory Committee Act and intended to notify the public of its opportunity to attend. In order to accommodate the availability of the Chair and ensure a quorum, this meeting notice is being published less than 15 days prior to the scheduled meeting date.

DATES: The President's Advisory Commission on Educational Excellence for African Americans meeting will be held on April 18, 2016 from 8:00 a.m.- 4:00 p.m. EST at the Liaison Capitol Hill, 415 New Jersey Avenue NW., Washington, DC 20001.

FOR FURTHER INFORMATION CONTACT: Lauren Mims. Lauren.Mims@ed.gov (202) 453-7207.

SUPPLEMENTARY INFORMATION: Statutory Authority and Function: The President's Advisory Commission on Educational Excellence for African Americans is established under Executive Order 13621, dated July 26, 2012 and extended by Executive Order 13708 dated September 15, 2015. The Commission is governed by the provisions of the Federal Advisory Committee Act (FACA) (Pub. L. 92-463; as amended, 5 U.S.C.A., Appendix 2) which sets forth standards for the formation and use of advisory committees. The purpose of the Commission is to advise the President and the Secretary of Education on matters pertaining to the educational attainment of the African American community, including: (a) The development, implementation, and coordination of educational programs and initiatives at the Department and other agencies to improve educational opportunities and outcomes for African Americans of all ages; (2) efforts to increase the participation of the African American community and institutions that serve the African American community in the Department's programs and in education programs at other agencies; (3) efforts to engage the philanthropic, business, nonprofit, and education communities in a national dialogue on the mission and objectives of this order; and (4) the establishment of partnerships with public, private, philanthropic, and nonprofit stakeholders to meet the mission and policy objectives of its Executive Order.

Meeting Agenda

9:00 a.m.-11:00 a.m. EST Policy Updates

12:00 p.m.-12:30 p.m. EST Policy Updates from Undersecretary Ted Mitchell

12:30 p.m.-1:30 p.m. EST Commission Member Deliberation & Discussion

1:00 p.m.-3:00 p.m. EST Work through the end of the term

• Media, Messaging and Ethics

• Commission Lead Engagements:

○ Transition—Commissioner Spencer Overton

○ AfAmEdSummits —Commissioner Sharon Lettman-Hicks; Commissioner Tykiah Wright; Commissioner Michael Nettles

○ Student Agency—Commissioner Tiffany Loftin

○ AfAmWomenLead—Commissioners Wright and Loftin

4:00 p.m. EST Adjournment

Access to Records of the Meeting: The Department will post the official report of the meeting on the PACEEAA's Web site 90 days after the meeting. Pursuant to the FACA, the public may also inspect the materials at 400 Maryland Avenue SW., Washington, DC, by emailing AfAmEvents@ed.gov or by calling (202) 453-5721 to schedule an appointment.

Reasonable Accommodations: The meeting site is accessible to individuals with disabilities. If you will need an auxiliary aid or service to participate in the meeting (e.g., interpreting service, assistive listening device, or materials in an alternate format), notify Lauren Mims listed in this notice at least two weeks before the scheduled meeting date. Although we will attempt to meet a request received after that date, we may not be able to make available the requested auxiliary aid or service because of insufficient time to arrange it.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: PACEEAA-Executive Order 13621, dated July 26, 2012 and extended by Executive Order 13708 dated September 15, 2015.

Ted Mitchell,
Under Secretary, U.S. Department of Education.

[FR Doc. 2016-08811 Filed 4-14-16; 8:45 am]

BILLING CODE 4000-01-P